DEPARTMENT OF COMMERCE

National Oceanic and Atmospheric Administration

50 CFR Part 300

RIN 0648-XG515

Fraser River Sockeye Salmon Fisheries; Inseason Orders

AGENCY: National Marine Fisheries Service (NMFS), National Oceanic and Atmospheric Administration (NOAA), Commerce.

ACTION: Temporary orders; inseason orders.

SUMMARY: NMFS publishes Fraser River salmon inseason orders to regulate treaty and non-treaty (all citizen) commercial salmon fisheries in U.S. waters. The orders were issued by the Fraser River Panel (Panel) of the Pacific Salmon Commission (Commission) and subsequently approved and issued by NMFS during the 2018 salmon fisheries within the U.S. Fraser River Panel Area. These orders established fishing dates, times, and areas for the gear types of U.S. treaty Indian and all citizen commercial fisheries during the period the Panel exercised jurisdiction over these fisheries.

DATES: The effective dates for the inseason orders are set out in this document under the heading Inseason Orders.

FOR FURTHER INFORMATION CONTACT: Peggy Mundy at 206-526-4323.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F, provide a framework for the implementation of certain regulations of the Commission and inseason orders of the Commission's Fraser River Panel for U.S. sockeye salmon fisheries in the Fraser River Panel Area.

The regulations close the U.S. portion of the Fraser River Panel Area to U.S. sockeye salmon tribal and non-tribal commercial fishing unless opened by Panel orders that are given effect by inseason regulations published by NMFS. During the fishing season, NMFS may issue regulations that establish fishing times and areas consistent with the Commission agreements and inseason orders of the Panel. Such orders must be consistent with domestic legal obligations and are issued by the Regional Administrator, West Coast Region, NMFS. Official notification of these inseason actions is provided by two telephone hotline numbers described at 50 CFR 300.97(b)(1) and in 84 FR 19005 (May 1, 2018). The inseason orders are published in the Federal Register as soon as practicable after they are issued. Due to the frequency with which inseason orders are issued, publication of individual orders is impractical.

Inseason Orders

The following inseason orders were adopted by the Panel and issued for U.S. fisheries by NMFS during the 2018 fishing season. Each of the following inseason actions was effective upon announcement on telephone hotline numbers as specified at 50 CFR 300.97(b)(1) and in 84 FR 19005 (May 1, 2018); those dates and times are listed herein. The times listed are local times, and the areas designated are Puget Sound Management and Catch Reporting Areas as defined in the Washington State Administrative Code at Chapter 220-22.

Fraser River Panel Order Number 2018-01: Issued 11:40 a.m., July 24, 2018

Treaty Indian Fishery

Areas 4B, 5, and 6C: Open to drift gillnets from 12 p.m. (noon), Friday, July 27, 2018, to 12 p.m. (noon), Tuesday, July 31, 2018.

Fraser River Panel Order Number 2018-02: Issued 11:40 a.m., July 27, 2018

Treaty Indian Fishery

Areas 4B, 5, and 6C: Extend for drift gillnets from 12 p.m. (noon), Tuesday, July 31, 2018, to 12 p.m. (noon), Wednesday, August 1, 2018.

Fraser River Panel Order Number 2018-03: Issued 11:40 a.m., July 31, 2018

Treaty Indian Fishery

Areas 4B, 5, and 6C: Extend for drift gillnets from 12 p.m. (noon), Wednesday, August 1, 2018, to 12 p.m. (noon), Saturday, August 4, 2018.

Areas 6, 7, and 7A: Open to net fishing from 5 a.m., Thursday, August 2, 2018, to 9 a.m., Friday, August 3, 2018, and from 5 a.m., Saturday, August 4, 2018, to 9 a.m., Sunday, August 5, 2018.

All Citizen Fisheries

Areas 7 and 7A: Open to purse seines from 5 a.m. to 9 p.m., Friday, August 3, 2018.

Areas 7 and 7A: Open to gillnets from 8 a.m. to 11:59 p.m. (midnight), Friday, August 3, 2018.

Areas 7 and 7A: Open to reefnets from 5 a.m. to 9 p.m., Monday, August 6, 2018.

Fraser River Panel Order Number 2018-04: Issued 1:25 p.m., August 3, 2018

Treaty Indian Fisheries

Areas 4B, 5, and 6C: Extend for drift gillnets from 12 p.m. (noon), Saturday, August 4, 2018, to 12 p.m. (noon), Wednesday, August 8, 2018.

Areas 6, 7, and 7A: Open to net fishing from 5 a.m., Tuesday, August 7, 2018, to 9 a.m., Thursday, August 9, 2018.

All Citizen Fisheries

Areas 7 and 7A: Open to purse seines from 5 a.m. to 9 p.m., Monday, August 6, 2018.

Areas 7 and 7A: Open to gillnets from 8 a.m. to 11:59 p.m. (midnight), Monday, August 6, 2018.

Areas 7 and 7A: Open to reefnets from 5 a.m. to 9 p.m., Wednesday, August 8, 2018.

Fraser River Panel Order Number 2018-05: Issued 12 p.m., August 7, 2018

Treaty Indian Fisheries

Areas 4B, 5, and 6C: Extend for drift gillnets from 12 p.m. (noon), Wednesday, August 8, 2018, to 12 p.m. (noon), Saturday, August 11, 2018.

Fraser River Panel Order Number 2018-06: Issued 12:05 p.m., August 8, 2018

All Citizen Fisheries

Areas 7 and 7A: Open to purse seines from 5 a.m. to 9 p.m., Thursday, August 9, 2018.

Areas 7 and 7A: Open to gillnets from 8 a.m. to 11:59 p.m. (midnight), Thursday, August 9, 2018.

Areas 7 and 7A: Open to reefnets from 5 a.m. to 9 p.m., Thursday, August 9, 2018.

Fraser River Panel Order Number 2018-07: Issued 1:35 p.m., August 10, 2018

Treaty Indian Fisheries

Areas 4B, 5, and 6C: Extend for drift gillnets from 12 p.m. (noon), Saturday, August 11, 2018, to 12 p.m. (noon), Wednesday, August 15, 2018.

Fraser River Panel Order Number 2018-08: Issued 1:30 p.m., August 14, 2018

Treaty Indian Fisheries

Areas 4B, 5, and 6C: Extend for drift gillnets from 12 p.m. (noon), Wednesday, August 15, 2018, to 12 p.m. (noon), Saturday, August 18, 2018.

Areas 6, 7, and 7A: Open to net fishing from 5 a.m., Wednesday, August 15, 2018, to 9 a.m., Friday, August 17, 2018.

All Citizen Fisheries

Areas 7 and 7A: Open to purse seines from 9 a.m. to 5 p.m., Friday, August 17, 2018.

Areas 7 and 7A: Open to gillnets from 2:30 p.m. to 10:30 p.m., Friday, August 17, 2018.

Areas 7 and 7A: Open to reefnets from 6:30 a.m. to 2:30 p.m., Saturday, August 18, 2018.

Fraser River Panel Order Number 2018-09: Issued 2:05 p.m., August 17, 2018

Treaty Indian Fisheries

Areas 4B, 5, and 6C: Extend for drift gillnets from 12 p.m. (noon), Saturday, August 18, 2018, to 12 p.m. (noon), Wednesday, August 22, 2018.

Fraser River Panel Order Number 2018-10: Issued 1:05 p.m., August 21, 2018

Treaty Indian Fisheries

Areas 4B, 5, and 6C: Extend for drift gillnets from 12 p.m. (noon), Wednesday, August 22, 2018, to 1 p.m., Friday, August 24, 2018.

Areas 6, 7, and 7A: Open to net fishing from 5 a.m. to 1 p.m., Friday, August 24, 2018.

Fraser River Panel Order Number 2018-11: Issued 3:10 p.m., August 23, 2018

Treaty Indian Fisheries

Areas 4B, 5, and 6C: Extend for drift gillnets from 1 p.m. to 11:59 p.m. (midnight), Friday August 24, 2018.

Areas 6, 7, and 7A: Extend for purse seines from 1 p.m. to 9 p.m., Friday, August 24, 2018. Extend for gillnets from 1 p.m. to 11:59 p.m. (midnight), Friday, August 24, 2018.

Fraser River Panel Order Number 2018-12: Issued 12:10 p.m., September 11, 2018

Treaty Indian and All Citizen Fisheries

Areas 4B, 5, 6, 6C, 7, and 7A, excluding the Apex: Relinquish regulatory control effective 11:59 p.m. (midnight), Saturday, September 15, 2018. The Apex is those waters north and west of the Area 7A “East Point Line,” defined as a line projected from the low water range marker in Boundary Bay on the International Boundary through the east tip of Point Roberts in the state of Washington to the East Point light on Saturna Island in the Province of British Columbia.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: November 2, 2018.
Karen H. Abrams,
Acting Director, Office of Sustainable Fisheries, National Marine Fisheries Service.

[FR Doc. 2018-24371 Filed 11-6-18; 8:45 am]

BILLING CODE 3510-22-P